DEPARTMENT OF HEALTH AND HUMAN SERVICES

Substance Abuse and Mental Health Services Administration

Notice of Meeting

Pursuant to Public Law 92-463, notice is hereby given that the Substance Abuse and Mental Health Services Administration's (SAMHSA) Center for Substance Abuse Prevention's (CSAP) Drug Testing Advisory Board (DTAB) will convene via in person and web conference on December 3rd, 2019, from 9:30 a.m. EST to 4:30 p.m. EST, and December 4th, 2019, from 9:00 a.m. EST to 4:00 p.m. EST.

The board will meet in open-session in-person on December 3rd, 2019, from 9:30 a.m. EST to 4:30 p.m. EST to discuss the Mandatory Guidelines for Federal Workplace Drug Testing Programs (urine and oral fluid specimens) with updates from the Department of Transportation, Nuclear Regulatory Commission, and the Department of Defense. Other discussion topics include the impact of cannabis laws on drug testing and standard variables. There will be additional presentations from the Division of Workplace Programs' staff on urine, oral fluid, hair Mandatory Guidelines; and the electronic chain of custody. The board will meet in closed-session in-person on December 4th, 2019, from 9:00 a.m. EST to 4:00 p.m. EST to discuss confidential issues surrounding the proposed Mandatory Guidelines for Federal Workplace Drug Testing Programs (hair), HHS drug panel review, preliminary and unpublished studies from the Johns Hopkins University Behavioral Pharmacology Research Unit (BPRU); recommendations to the Assistant Secretary for Mental Health and Substance Use regarding additional drugs (fentanyl and methadone) that may be tested for in the future, and lastly, program financials. Therefore, the December 4th, 2019, from 9:00 a.m. EST to 4:00 p.m. EST, meeting is closed to the public, as determined by the Assistant Secretary for Mental Health and Substance Use, SAMHSA, in accordance with 5 U.S.C. 552b(c)(4) and (9)(B), and 5 U.S.C. App. 2, Section 10(d).

Meeting registration information can be completed at http://snacregister.samhsa.gov/MeetingList.aspx. Web conference and call information will be sent after completing registration. Meeting information and a roster of DTAB members may be obtained by accessing the SAMHSA Advisory Committees website, https://www.samhsa.gov/about-us/advisory-councils/meetings or by contacting the Designated Federal Officer, Jennifer Fan.

Committee Name: Substance Abuse and Mental Health Services Administration, Center for Substance Abuse Prevention, Drug Testing Advisory Board.

Dates/Time/Type: December 3, 2019, from 9:30 a.m. to 4:30 p.m. EST: OPEN. December 4, 2019, from 9:00 a.m. to 4:00 p.m. EST: CLOSED.

Place: Substance Abuse and Mental Health Services Administration, 5th Floor Pavilion A, B, 5600 Fishers Lane, Rockville, MD 20857.

Contact: Jennifer Fan, Senior Pharmacist, Center for Substance Abuse Prevention, 5600 Fishers Lane, Room 16N06D, Rockville, Maryland 20857, Telephone: (240) 276-1759, email: jennifer.fan@samhsa.hhs.gov.

Anastasia Marie Donovan,
Policy Anayst.

[FR Doc. 2019-24649 Filed 11-12-19; 8:45 am]

BILLING CODE 4162-20-P